DEPARTMENT OF COMMERCE

National Oceanic and Atmospheric Administration

RIN 0648-XA667

North Pacific Fishery Management Council; Public Meeting

AGENCY: National Marine Fisheries Service (NMFS), National Oceanic and Atmospheric Administration (NOAA), Commerce.

ACTION: Notice of a public meeting of the North Pacific Fishery Management Council's (NPFMC) Crab Plan Team (CPT).

SUMMARY: The CPT will meet September 19-22, 2011 at the Alaska Fishery Science Center, 7600 Sand Point Way, NE., Building 4, Traynor Room, Seattle, WA.

DATES: The meeting will be held September 19-22, 2011, from 9 a.m. to 5 p.m.

ADDRESSES: The meeting will be held at the Alaska Fishery Science Center, 7600 Sand Point Way, NE., Building 4, Traynor Room, Seattle, WA.

Council address: North Pacific Fishery Management Council, 605 W. 4th Avenue, Suite 306, Anchorage, AK 99501-2252.

FOR FURTHER INFORMATION CONTACT: Diana Stram; telephone: (907) 271-2809.

SUPPLEMENTARY INFORMATION: The Plan Team meeting agenda includes: Finalize assessments (including Overfishing Fishing Limits and Acceptable Biological Catch recommendations) for Tanner Crab, Snow Crab, Bristol Bay Red King Crab, Saint Matthew Blue King Crab King Crab, Pribilof Island Blue King Crab, Aleutian Island Golden King Crab; Review ecosystem considerations; Review/revise Economic Stock Assessment Fishery Evaluation report; Review overview of Nearshore Bristol Bay survey; and Discussion of Bmsy proxy criteria and time frames based on results of current assessments and guidelines for upcoming assessment cycle.

The Agenda is subject to change, and the latest version will be posted at http://www.alaskafisheries.noaa.gov/npfmc/.

Special Accommodations

These meetings are physically accessible to people with disabilities. Requests for sign language interpretation or other auxiliary aids should be directed to Gail Bendixen at (907) 271-2809 at least 7 working days prior to the meeting date.

Dated: August 23, 2011.
Tracey L. Thompson,
Acting Director, Office of Sustainable Fisheries, National Marine Fisheries Service.

[FR Doc. 2011-21891 Filed 8-25-11; 8:45 am]

BILLING CODE 3510-22-P